FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors (Board). This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 2, 2024.

A. Federal Reserve Bank of Chicago (Colette A. Fried, Assistant Vice President) 230 South LaSalle Street, Chicago, Illinois 60690-1414. Comments can also be sent electronically to Comments.applications@chi.frb.org:

1. Beth E. Brotherton, Taylorville, Illinois; and Thomas Matthew Beavers, Mount Zion, Illinois; to acquire additional voting shares of First Bancorp of Taylorville, Inc. (Bancorp), Taylorville, Illinois, and thereby indirectly acquire additional voting shares of First National Bank in Taylorville, Taylorville, Illinois, and First Security Bank, Mackinaw, Illinois. In addition, together with the Revocable Trust Agreement No. 060134, James O. Beavers, trustee, both of Taylorville, Illinois, to form the Beavers Family Control Group, as a group acting in concert to control voting shares of Bancorp.

B. Federal Reserve Bank of Kansas City (Jeffrey Imgarten, Assistant Vice President) 1 Memorial Drive, Kansas City, Missouri 64198-0001. Comments can also be sent electronically to KCApplicationComments@kc.frb.org:

1. The Stitt Dynasty Trust dated December 31, 2021, Tulsa, Oklahoma, James Redman, as trustee; to join the Stitt Family Group, a group acting in concert, to acquire voting shares of Gateway First Bancorp, Inc., and and thereby indirectly acquire voting shares of Gateway First Bank, both of Jenks, Oklahoma. James Redman, individually, was previously permitted to control voting shares of Gateway First Bancorp, Inc., and as a member of the Stitt Family Group.

Board of Governors of the Federal Reserve System.
Michele Taylor Fennell,
Deputy Associate Secretary of the Board.

[FR Doc. 2024-00917 Filed 1-17-24; 8:45 am]

BILLING CODE 6210-01-P